DEPARTMENT OF ENERGY

Federal Energy Regulatory Commission

[Project No. 14522-000]

FFP Project 132, LLC; Notice of Preliminary Permit Application Accepted for Filing and Soliciting Comments, Motions To Intervene, and Competing Applications

On May 20, 2013, FFP Project 132, LLC filed an application for a preliminary permit, pursuant to section 4(f) of the Federal Power Act (FPA), proposing to study the feasibility of the Allegheny Lock and Dam #7 Hydroelectric Project (Allegheny #7 Project or project) to be located at the U.S. Army Corps of Engineers' (Corps) Allegheny Lock and Dam #7 on the Allegheny River in Armstrong County, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) A new forebay 160 feet wide by 160 feet long; (2) a new powerhouse 160 feet wide by 125 feet long; (3) a new tailrace 160 feet wide by 200 feet long; (4) new concrete retaining walls upstream of the dam spillway and downstream of the new powerhouse; (5) three horizontal bulb turbine-generators each rated at 5.5 megawatts; (6) a 50-megavolt-ampere, 4.16-kilovolt (kV)/69-kV three-phase step-up transformer; (7) a new substation 40 feet wide by 40 feet long; and (8) a new 69-kV transmission line approximately 2.3 miles long from the new substation to an existing substation. The estimated annual generation of the Allegheny #7 Project would be 89 gigawatt-hours.

Applicant Contact: Mr. Daniel Lissner, FFP Project 132, LLC, 239 Causeway Street, Suite 300, Boston, MA 02114; phone: (978) 283-2822.

FERC Contact: Woohee Choi; phone: (202) 502-6336.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14522) in the docket number field to access the document. For assistance, contact FERC Online Support.

Dated: June 4, 2013.
Kimberly D. Bose,
Secretary.

[FR Doc. 2013-13809 Filed 6-10-13; 8:45 am]

BILLING CODE 6717-01-P